DEPARTMENT OF TRANSPORTATION

Federal Transit Administration

Environmental Impact Statement on the Northwest Corridor—Carrollton Line Light Rail Transit Project in Dallas, Farmers Branch, and Carrollton, TX

AGENCY: Federal Transit Administration, DOT.

ACTION: Notice of Intent to prepare an environmental impact statement.

SUMMARY: The Federal Transit Administration (FTA) and Dallas Area Rapid Transit (DART) have issued this notice to advise interested agencies and the public of their intent to prepare an Environmental Impact Statement (EIS) on the proposed Northwest Corridor-Carrollton Line Light Rail Transit (LRT) Project in Dallas, Farmers Branch, and Carrollton, Texas. The EIS will be prepared in accordance with the National Environmental Policy Act of 1969 (NEPA), as amended. The Dallas-Fort Worth region is currently designated as a serious non-attainment area for ozone by the Environmental Protection Agency.

The Northwest Corridor-Carrollton Line LRT Project is the product of the Northwest Corridor Major Investment Study (MIS) completed by DART in early 2000. The MIS identified a Locally Preferred Investment Strategy (LPIS), which included a light rail element with two service lines, the Carrollton Line and the DFW Line. The Carrollton Line is being advanced into the EIS phase of project development at this time. The DFW Line will be advanced into the EIS process at a later time when alignment and land use issues are resolved. A separate EIS is also being prepared for a DART LRT extension in the Southeast Corridor of the Dallas metropolitan area.

DATES: Comment Due Date: Written comments on the scope of the alternatives and impacts to be considered should be sent to Kay Shelton, Project Manager by December 20, 2000. See ADDRESSES below.

Scoping Meetings: Three public scoping meetings will be held at the following locations and dates. Scoping material will be available at the meeting or in advance of the meeting DART and the cities of Dallas, Farmers Branch, and Carrollton will conduct public scoping meetings on the following dates and at the following locations:

Tuesday, December 5, 2000, 6:30 p.m., Bachman Recreation Center, 2750 Bachman Drive, Dallas, Texas

Thursday, December 7, 6:30 p.m., Farmers Branch Elementary School, 13521 Tom Field Road, Farmers Branch, Texas

Friday, December 8, 10 a.m.-1 p.m., DART Board Room, 1401 Pacific Avenue, Dallas, Texas

Interagency Coordination Meeting: DART will conduct an interagency coordination meeting with appropriate federal, state, and local agencies on the following date and at the following location: Wednesday, December 6, 2000, 1 p.m. to 3 p.m., DART Board Conference Room 1-C, 1401 Pacific Avenue, Dallas, Texas

ADDRESSES: Written comments on the project scope should be sent to Kay Shelton, DART Planning, P.O Box 660163, 1401 Pacific Avenue, Dallas, Texas 75266-7213. Telephone (214) 749-2841, Fax (214) 749-3662, E-mail: kshelton@dart.org.

FOR FURTHER INFORMATION CONTACT: Mr. Jesse Balleza, Community Planner, Federal Transit Administration, Region VI; Telephone (817) 978-0550.

SUPPLEMENTARY INFORMATION:

I. Scoping

The FTA and DART invite interested individuals, organizations, and federal, state, and local agencies to participate in refining the Carrollton LRT Line, including alignment and station locations. Comments should focus on identifying any significant social, economic, or environmental issues related to the alignment. Specific suggestions related to additional alternatives to be examined and issues to be addressed are welcome and will be considered in the final scope for the project. Scoping comments may be made at the scoping meetings or in writing no later than December 20, 2000. (see DATES and ADDRESSES above.)

Scoping comments should focus on identifying specific social, economic, or environmental impacts to be evaluated, and suggesting alternatives that are less costly or less environmentally damaging, which achieve similar transit objectives. Comments should focus on the issues and alternatives for analysis, and not on a preference for a particular alternative. Additional information on the EIS process, alternatives, and impact issues to be addressed will be included in the “Scoping Information Document”. Copies of the document will be available from DART immediately prior to the scoping meetings (see DATES and ADDRESSES above.)

II. Description of Study Area and Project Need

The Northwest Corridor Study Area includes a large part of northwest Dallas County. It extends from downtown Dallas on the south, to SH 121 on the west and north, to east of Marsh Lane and IH 35E on the east. The Major Investment Study's Locally Preferred Investment Strategy (LPIS) includes two rail lines, the D/FW Line and the Carrollton Line. Each of the two rail lines has independent utility in meeting transportation needs of the Study Area. The Carrollton Line is being advanced now into the Environmental Impact Statement (EIS) phase. The D/FW Line will be advanced into the EIS phase at a later time when land use and alignment issues are resolved.

The Northwest Corridor Major Investment Study defined and evaluated a range of project alternatives using a 4-step evaluation process. In addition to the No Build Alternative, a Transportation Systems Management (TSM) Alternative, Commuter Rail Alternatives, several variations of Light Rail Transit (LRT) Alternatives, and some alternatives that combined both LRT and Commuter Rail were considered. Based on work group and public input, and based on the technical analysis, the above-described build alternative was selected. While some alignment refinements will continue for the LPIS, the other alternatives considered during the MIS were dropped from further consideration. The EIS will consider the No Build Alternative in addition to Carrollton LRT Line as the Build Alternative (see ALTERNATIVES below).

The proposed project for environmental review consists of a light rail transit (LRT) line of approximately 17 miles. The LRT alignment begins in downtown Dallas and extends north from the existing LRT transitway mall beginning at a point between the West End Station and Union Station. The alignment will utilize a portion of the former Union Pacific Railroad (UPRR) right-of-way, sharing the corridor with Trinity Railway Express (TRE) commuter rail and freight rail operations between downtown Dallas and approximately Wycliff Avenue. The proposed LRT alignment crosses over Market Center Boulevard, continuing in the median of Harry Hines Boulevard. North of Inwood Road the LRT alignment turns east along Bomar Street and north at Denton Drive, then crosses under Mockingbird Lane near Denton Drive. Alignment options to serve Love Field will be considered during the EIS process, including continuing north on the former UPRR ROW, or an alignment that provides more direct access to the Love Field passenger terminal. North of Love Field, the alignment follows the UPRR ROW north through the cities of Farmers Branch and Carrollton, terminating in the vicinity of Frankford Road.

Eleven stations are proposed in the following vicinities: the new American Airlines Center (Victory), Market Center, Medical Center, Mockingbird/Love Field, Northwest Highway/Bachman Lake, Walnut Hill, Royal, Farmers Branch Park-and-Ride, Belt Line/Old Downtown Carrollton, North Carrollton Transit Center, and Frankford Road. The Carrollton Line and its associated stations provides the opportunity to serve several important regional activity centers, including downtown Dallas, American Airlines Center (Victory), the Stemmons (IH 35E)/Market Center business area, Medical Center area, Love Field Airport, and the suburban cities of Farmers Branch and Carrollton. The proposed rail line will provide numerous opportunities to interconnect the region's transit services, including DART's expanding LRT system, the Trinity Railway Express commuter rail operation, and DART's local and express bus service.

The corridor parallels IH 35E, one of the most congested highway corridors in the region. Regional growth has added to this congestion, especially employment growth in Dallas County, and population growth in northern Dallas, northeast Tarrant, and Denton Counties. In 2020, the northwest quadrant of Dallas County will account for 33.6 percent of employment in the entire Dallas-Fort Worth region. While covering only 6.4 percent of the region's land area, the study area is a large net importer of employees. In 1995, employment outnumbered population by over 200,000 jobs. In 2020, the surplus of jobs over population is expected to grow to more than 336,000. Land use in the corridor consists of a major concentration of employment with residential uses occurring east of IH 35E and in the northern portions of the Study Area. Industrial and commercial land uses are primarily confined to land adjacent to IH 35E. Traffic volumes on IH 35E parallel to the Carrollton LRT Line are expected to be more than 300,000 vehicles per day in 2020, an increase of 30 percent from 1995 levels. The EPA has designated the Dallas-Fort Worth metropolitan area as a “serious” non-attainment area for the pollutant ozone.

The proposed LRT project is part of a multi-modal strategy that also incorporates bus service refinements, highway and HOV lane improvements, Transportation System Management/Travel Demand Management (TSM/TDM), and bicycle and pedestrian improvements. This strategy was developed during the preparation of the Northwest Corridor MIS completed by DART in early 2000.

III. Alternatives

The transportation alternatives proposed for consideration in this project area include:

No-Build Alternative—The No-Build Alternative involves no change to transportation services or facilities in the corridor beyond already committed projects.

Build Alternative—The Carrollton Line LRT project is approximately 17 miles in length and extends from the downtown Dallas West End area to Frankford Road in Carrollton. The alignment will use the former UPRR ROW, purchased by DART for future transit use in 1990, and surface streets where required to make key connections. The project will connect with the existing LRT system in the West End area of downtown and will operate in a shared use corridor with freight traffic and Trinity Railway Express commuter rail traffic for a distance of approximately two miles. The alignment will use a combination of surface streets and UPRR right-of-way in order to serve the Medical Center area and the Love Field environs (approximately three miles). North of the Love Field area, the alignment remains within the UPRR right-of-way to Frankford Road (12 miles). Where the alignment is within the UPRR right-of-way there will be potential shared use with freight traffic. Eleven (11) LRT Stations have been identified for service access. Two significant design options have been identified for evaluation during the EIS process: (1) Griffin alignment: an alignment between the proposed Victory Station and the Downtown Transit Mall via Griffin Street; and (2) Love Field: an alternative alignment to serve Love Field has been proposed, swinging east of the UPRR right-of-way and entering the Love Field Terminal area east of Cedar Springs Road.

IV. Probable Effects

The FTA and DART will evaluate all significant environmental, social, and economic impacts of the alternatives analyzed in the EIS. Impact areas to be addressed include: land use, zoning, and economic development; secondary development; land acquisition, displacements, and relocation of existing uses; historic, archaeological, and cultural resources; parklands and recreation areas; visual and aesthetic qualities; neighborhoods and communities; environmental justice; air quality; noise and vibration; hazardous materials; ecosystems; water resources; energy; safety and security; utilities; traffic and transportation impacts. Potential impacts will be assessed for the long-term operation of each alternative and the short-term construction period. Measures to avoid, minimize, or mitigate any significant adverse impacts will be identified.

V. FTA Procedures

The EIS process will be performed in accordance with applicable laws and Federal Transit Administration regulations and guidelines for preparing an Environmental Impact Statement. The impacts of the project will be assessed, and, if necessary, the scope of the project will be revised or refined to minimize and mitigate any adverse impacts. After its publication, the draft EIS will be available for public review and comment. One or more public hearings will be held during the draft EIS public comment period. On the basis of the draft EIS and comments received, the project will be revised or further refined as necessary and the final EIS prepared.

Issued on: October 30, 2000.
Robert C. Patrick,
Regional Administrator.

[FR Doc. 00-28302 Filed 11-2-00; 8:45 am]

BILLING CODE 4910-57-P